DEPARTMENT OF TRANSPORTATION

Federal Aviation Administration

14 CFR Part 39

[Docket No. FAA-2006-23648; Directorate Identifier 2006-CE-07-AD; Amendment 39-14514; AD 2006-06-06]

RIN 2120-AA64

Airworthiness Directives; The Cessna Aircraft Company Models 208 and 208B Airplanes

AGENCY: Federal Aviation Administration (FAA), DOT.

ACTION: Final rule; correction.

SUMMARY: This document makes a correction to Airworthiness Directive (AD) 2006-06-06, which published in the Federal Register on March 16, 2006 (71 FR 13533), and applies to all The Cessna Aircraft Company (Cessna) Models 208 and 208B airplanes. AD 2006-06-06 requires you to incorporate information into the applicable section of the Airplane Flight Manual (AFM) and Pilots Operating Handbook (POH) and requires installation of placards. Current language in paragraph (f)(3) of AD 2006-06-06 regarding the placard requirement inadvertently states: “You may insert a copy of this AD into the appropriate sections of the POH to comply with this action.” This does not meet the intent of the AD. This document corrects that paragraph by removing the language referenced above.

DATES: The effective date of this AD (2006-06-06) remains March 24, 2006.

FOR FURTHER INFORMATION CONTACT: Robert P. Busto, Aerospace Engineer, Wichita Aircraft Certification Office, FAA, 1801 Airport Road, Wichita, Kansas 67209; telephone: (316) 946-4157; facsimile: (316) 946-4107.

SUPPLEMENTARY INFORMATION:

Discussion

On March 10, 2006, the FAA issued AD 2006-06-06, Amendment 39-14514 (71 FR 13533, March 16, 2006), which applies to all Cessna Models 208 and 208B airplanes. AD 2006-06-06 requires you to incorporate information into the applicable section of the AFM and POH and requires installation of placards. Current language in paragraph (f)(3) of AD 2006-06-06 regarding the placard requirement inadvertently states: “You may insert a copy of this AD into the appropriate sections of the POH to comply with this action.” This does not meet the intent of the AD.

Need for the Correction

This correction is needed to not allow a method of compliance that was inadvertently included in the AD and does not address the unsafe condition.

Correction of Publication

Accordingly, the publication of March 16, 2006 (71 FR 13533), of Amendment 39-14514; AD 2006-06-06, which was the subject of FR Doc. 06-2544, is corrected as follows:

§ 39.13 [Corrected]

On page 13536, in § 39.13 [Amended], in paragraph (f)(3), in the Procedures column, remove the following text:

“You may insert a copy of this AD into the appropriate sections of the POH to comply with this action.”

Action is taken herein to correct this reference in AD 2006-06-06 and to add this AD correction to § 39.13 of the Federal Aviation Regulations (14 CFR 39.13).

The effective date remains March 24, 2006.

Issued in Kansas City, Missouri, on March 30, 2006.
David R. Showers,
Acting Manager, Small Airplane Directorate, Aircraft Certification Service.

[FR Doc. 06-3252 Filed 4-4-06; 8:45 am]

BILLING CODE 4910-13-P